DEPARTMENT OF ENERGY

Federal Energy Regulatory Commission

[Docket No. RP00-562-000]

Clear Creek Storage Company, L.L.C.; Notice of Compliance Filing

October 12, 2000.

Take notice that on September 22, 2000, Clear Creek Storage Company, L.L.C. (Clear Creek) tendered for filing its explanation of why it is not feasible for Clear Creek to comply with Order No. 587-L.

Clear Creek states that since it does not impose of imbalance penalty provisions, implementation of Order No. 587-L is not necessary on its system.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-26684 Filed 10-17-00; 8:45 am]

BILLING CODE 6717-01-M